DEPARTMENT OF JUSTICE

Notice of Lodging of Proposed Consent Decree Under the Comprehensive Response, Compensation, and Liability Act and the Clean Water Act

On December 15, 2016, the Department of Justice lodged a proposed Consent Decree with the United States District Court for the Western District of Virginia in the lawsuit entitled United States and Commonwealth of Virginia, Secretary of Natural Resources v. E.I. du Pont de Nemours and Company, Civil Action No. 5:16-CV-00082.

The Consent Decree resolves claims against E.I. du Pont de Nemours and Company (“DuPont”) for natural resource damages under the Comprehensive Environmental Response, Compensation, and Liability Act, the Clean Water Act, and the State Water Control Law relating to discharges of mercury from a former acetate fiber manufacturing facility in Waynesboro, Virginia. Under the Consent Decree, DuPont is required to pay certain unreimbursed government assessment costs, pay a total of $42,069,916.78 for natural resource restoration projects to be used by the natural resource Trustees for projects pursuant to the Restoration Plan for the site, and implement a fish hatchery project for modifications and improvements to the Front Royal Fish Hatchery.

The publication of this notice opens a period for public comment on the Consent Decree. Comments should be addressed to the Assistant Attorney General, Environment and Natural Resources Division, and should refer to United States and Commonwealth of Virginia, Secretary of Natural Resources v. E.I. du Pont de Nemours and Company, D.J. Ref. No. 90-11-3-09419. All comments must be submitted no later than 45 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $40.25 (25 cents per page reproduction cost) payable to the United States Treasury. For a paper copy without the exhibits and signature pages, the cost is $10.50.

Robert Brook,
Assistant Section Chief, Environmental Enforcement Section, Environment and Natural Resources Division.

[FR Doc. 2016-30642 Filed 12-19-16; 8:45 am]

BILLING CODE 4410-15-P